DEPARTMENT OF DEFENSE

GENERAL SERVICES ADMINISTRATION

NATIONAL AERONAUTICS AND SPACE ADMINISTRATION

[OMB Control No. 9000-0141; Docket 2011-0079; Sequence 15]

Federal Acquisition Regulation; Submission for OMB Review; Buy American—Construction

AGENCIES: Department of Defense (DOD), General Services Administration (GSA), and National Aeronautics and Space Administration (NASA).

ACTION: Notice of request for comments regarding an extension to an existing OMB clearance.

SUMMARY: Under the provisions of the Paperwork Reduction Act, the Regulatory Secretariat will be submitting to the Office of Management and Budget (OMB) a request to review and approve an extension of a previously approved information collection requirement concerning the Buy American Act—Construction (Grimberg Decision). A notice was published in the Federal Register at 76 FR 40367, on July 8, 2011. No comments were received.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before November 21, 2011.

FOR FURTHER INFORMATION CONTACT: Ms. Cecelia Davis, Procurement Analyst, Acquisition Policy Division, GSA (202) 219-0202 or Cecelia.davis@gsa.gov.

ADDRESSES: Submit comments identified by Information Collection 9000-0141, Buy American—Construction, by any of the following methods:

• Regulations.gov: http://www.regulations.gov. Submit comments via the Federal eRulemaking portal by inputting “Information Collection 9000-0141”, Buy American—Construction, under the heading “Enter Keyword or ID” and selecting “Search”. Select the link “Submit a Comment” that corresponds with “Information Collection 9000-0141”, Buy American—Construction. Follow the instructions provided at the “Submit a Comment” screen. Please include your name, company name (if any), and “Information Collection 9000-0141”, Buy American—Construction, on your attached document.

• Fax: 202-501-4067.

• Mail: General Services Administration, Regulatory Secretariat (MVCB), 1275 First Street, NE., Washington, DC 20417. Attn: Hada Flowers/IC 9000-0141, Buy American—Construction.

Instructions: Please submit comments only and cite Information Collection 9000-0141, Buy American—Construction, in all correspondence related to this collection. All comments received will be posted without change to http://www.regulations.gov, including any personal and/or business confidential information provided.

SUPPLEMENTARY INFORMATION:

A. Purpose

The clauses at FAR 52.225-9, Buy American Act—Construction Materials, and FAR 52.225-11, Buy American Act—Construction Materials under Trade Agreements, provide that offerors/contractors requesting to use foreign construction material, other than construction material eligible under a trade agreement, shall provide adequate information for Government evaluation of the request.

These regulations implement 41 U.S.C. chapter 83, Buy American, for construction.

B. Annual Reporting Burden

Respondents: 500.

Responses per Respondent: 2.

Annual Responses: 1,000.

Hours per Response: 2.5.

Total Burden Hours: 2,500.

Obtaining Copies of Proposals: Requesters may obtain a copy of the information collection documents from the General Services Administration, Regulatory Secretariat (MVCB), 1275 First Street, NE., Washington, DC 20417, telephone (202) 501-4755. Please cite OMB Control No. 9000-0141, Buy American—Construction, in all correspondence.

Dated: October 14, 2011.
Laura Auletta,
Acting Director, Office of Governmentwide Acquisition Policy, Office of Acquisition Policy.

[FR Doc. 2011-27333 Filed 10-20-11; 8:45 am]

BILLING CODE 6820-EP-P